FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, if any, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than December 23, 2019.

A. Federal Reserve Bank of St. Louis (David L. Hubbard, Senior Manager) P.O. Box 442, St. Louis, Missouri 63166-2034. Comments can also be sent electronically to Comments.applications@stls.frb.org:

1. Kalista Ann Stover Carroll, Dyer, Tennessee, and Terrie Lou Stover Joyner, Trenton, Tennessee; individually, and as members of a group acting in concert with Julie Joyner Hager, Trenton, Tennessee, and Kellie Joyner Ashburn, Rives, Tennessee, to retain voting shares of Dyer F & M Bancshares, Inc., and thereby indirectly retain voting shares of The Farmers & Merchants Bank, both of Dyer, Tennessee.

Board of Governors of the Federal Reserve System, December 3, 2019.
Yao-Chin Chao,
Assistant Secretary of the Board.

[FR Doc. 2019-26382 Filed 12-5-19; 8:45 am]

BILLING CODE P